DEPARTMENT OF THE TREASURY

Office of Foreign Assets Control

Sanctions Actions Pursuant to Executive Order 13224

AGENCY: Office of Foreign Assets Control, Treasury.

ACTION: Notice.

SUMMARY: The Treasury Department's Office of Foreign Assets Control (OFAC) is publishing the names of 1 individual and 2 entities whose property and interests in property are blocked pursuant to Executive Order (E.O.) 13224 and whose names have been added to OFAC's list of Specially Designated Nationals and Blocked Persons (SDN List). OFAC is also publishing identifying information relating to 9 aircraft that OFAC has determined to be property in which Mahan Air, a person designated under E.O. 13224, has an interest, and which therefore are blocked pursuant to E.O. 13224.

DATES: OFAC's actions described in this notice were effective May 21, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On May 21, 2015, OFAC blocked the property and interests in property of the following 1 individual and 2 entities pursuant to E.O. 13224, “Blocking Property and Prohibiting Transactions With Persons Who Commit, Threaten To Commit, or Support Terrorism”. In addition, on May 21, 2015, OFAC identified 9 aircraft, whose identifying information is detailed below, as property in which Mahan Air, a designated entity, has an interest, and which therefore are blocked pursuant to E.O. 13224:

Individual

1. SHAMMOUT, Issam (a.k.a. SHAMMOUT, Muhammad Isam Muhammad Anwar Nur); DOB 26 Aug 1971; Additional Sanctions Information—Subject to Secondary Sanctions; Passport 006327129 (Syria) (individual) [SDGT] [IFSR] (Linked To: MAHAN AIR).

Entities

1. AL-NASER AIRLINES (a.k.a. ALNASER AIRLINES), Al-Karrada, Babil Region—District 929, St. 21, Home 46, Baghdad, Iraq; P.O. Box 28360, Dubai, United Arab Emirates; P.O. Box 911399, Amman 11191, Jordan; Additional Sanctions Information—Subject to Secondary Sanctions [SDGT] [IFSR] (Linked To: MAHAN AIR).

2. SKY BLUE BIRD AVIATION (a.k.a. SKY BLUE AIRLINES; a.k.a. SKY BLUE BIRD FZE), P.O. Box 16111, Ras al Khaimah Trade Zone, United Arab Emirates; Additional Sanctions Information—Subject to Secondary Sanctions [SDGT] [IFSR] (Linked To: MAHAN AIR).

Aircraft

1. MSN 164; Aircraft Manufacture Date 1997; Aircraft Model Airbus A340-313X; Previous Aircraft Tail Number G-VAIR; Aircraft Manufacturer's Serial Number (MSN) 164; Additional Sanctions Information—Subject to Secondary Sanctions (aircraft) [SDGT] [IFSR] (Linked To: MAHAN AIR).

2. MSN 371; Aircraft Manufacture Date 2001; Aircraft Model Airbus A340-642; Previous Aircraft Tail Number YI-NAC; Aircraft Manufacturer's Serial Number (MSN) 371; Additional Sanctions Information—Subject to Secondary Sanctions (aircraft) [SDGT] [IFSR] (Linked To: MAHAN AIR).

3. MSN 376; Aircraft Manufacture Date 2001; Aircraft Model Airbus A340-642; Previous Aircraft Tail Number YI-NAB; Aircraft Manufacturer's Serial Number (MSN) 376; Additional Sanctions Information—Subject to Secondary Sanctions (aircraft) [SDGT] [IFSR] (Linked To: MAHAN AIR).

4. MSN 383; Aircraft Manufacture Date 2002; Aircraft Model Airbus A340-642; Previous Aircraft Tail Number YI-NAA; Aircraft Manufacturer's Serial Number (MSN) 383; Additional Sanctions Information—Subject to Secondary Sanctions (aircraft) [SDGT] [IFSR] (Linked To: MAHAN AIR).

5. MSN 391; Aircraft Manufacture Date 2002; Aircraft Model Airbus A340-642; Aircraft Manufacturer's Serial Number (MSN) 391; Aircraft Tail Number EP-MMH; Additional Sanctions Information—Subject to Secondary Sanctions (aircraft) [SDGT] [IFSR] (Linked To: MAHAN AIR).

6. MSN 416; Aircraft Manufacture Date 2002; Aircraft Model Airbus A340-642; Previous Aircraft Tail Number YI-NAD; Aircraft Manufacturer's Serial Number (MSN) 416; Additional Sanctions Information—Subject to Secondary Sanctions (aircraft) [SDGT] [IFSR] (Linked To: MAHAN AIR).

7. MSN 449; Aircraft Manufacture Date 2002; Aircraft Model Airbus A340-642; Previous Aircraft Tail Number YI-NAE; Aircraft Manufacturer's Serial Number (MSN) 449; Additional Sanctions Information—Subject to Secondary Sanctions (aircraft) [SDGT] [IFSR] (Linked To: MAHAN AIR).

8. MSN 550; Aircraft Manufacture Date 1995; Aircraft Model Airbus A321-131; Previous Aircraft Tail Number 2-WGLP; Aircraft Manufacturer's Serial Number (MSN) 550; Additional Sanctions Information—Subject to Secondary Sanctions (aircraft) [SDGT] [IFSR] (Linked To: MAHAN AIR).

9. MSN 615; Aircraft Manufacture Date 2004; Aircraft Model Airbus A340-642; Previous Aircraft Tail Number G-VSSH; Aircraft Manufacturer's Serial Number (MSN) 615; Additional Sanctions Information—Subject to Secondary Sanctions (aircraft) [SDGT] [IFSR] (Linked To: MAHAN AIR).

Dated: May 21, 2015.
John E. Smith,
Acting Director, Office of Foreign Assets Control.

[FR Doc. 2015-13026 Filed 5-28-15; 8:45 am]

BILLING CODE 4810-AL-P